Proclamation 10822 of September 30, 2024

National Breast Cancer Awareness Month, 2024

By the President of the United States of America

A Proclamation

Too many Americans know the pain of losing a mother, sister, wife, daughter, or loved one to breast cancer. During National Breast Cancer Awareness Month, we honor the memories of all those we have lost to this devastating disease. We give strength and support to their families, to their caregivers, to survivors, and to women still undergoing treatment. And we express our gratitude to all the medical professionals and health researchers working tirelessly to end cancer as we know it.

Today, there are more than four million breast cancer survivors in America—and this year alone, hundreds of thousands more will be diagnosed. While scientists have made significant breakthroughs to better prevent, detect, and treat breast cancer, a diagnosis is frightening and overwhelming. Patients and families are often flooded with complex medical information and forced to advocate for themselves to receive basic care. Additionally, some patients are left saddled with exorbitant medical bills while undergoing grueling treatments.

For my family and Vice President Harris' family—along with millions of families across the country—cancer is personal. Ending cancer as we know it has been a top priority for my Administration since day one. The First Lady and I reignited the Cancer Moonshot to cut the cancer death rate by at least 50 percent over the next 25 years and improve the experience of those diagnosed with cancer and their loved ones. I also established the Advanced Research Projects Agency for Health, securing $4 billion in bipartisan funding to help the scientists, innovators, and public health professionals who are working around the clock to improve the prevention, detection, and treatment of cancers and other deadly diseases.

My Administration has also worked hard to make cancer treatment more affordable for patients. I strengthened Medicaid and the Affordable Care Act (ACA), expanding health coverage to millions of Americans and saving millions of families $800 per year on their health insurance premiums. My Inflation Reduction Act will cap total out-of-pocket costs for prescription drugs at $2,000 per year for seniors and other people on Medicare—including expensive cancer medications, which can cost tens of thousands of dollars.

Moreover, to increase support for patients and their families, we have ensured that people facing cancer can access patient navigation services that are fully paid for through Medicare, Medicaid, and private health insurance. This personalized assistance helps lift the burden of managing the complex medical journey alone from millions of patients.

Furthermore, my Administration is committed to ensuring women have access to screening and early detection services, which are critical in catching breast cancer early and saving lives. Toward that aim, we expanded coverage under the ACA, which requires insurers to pay for recommended cancer screenings—including mammograms—for many more Americans. We expanded access to free breast cancer screenings for any veteran exposed to burn pits during their military service. And we will continue to forge partnerships with community health centers to help ensure underserved communities have access to early detection and support services.

For more information about breast cancer, go to cancer.gov/types/breast or call 1-800-422-6237 to speak to information specialists at the National Cancer Institute in English and in Spanish. The Centers for Disease Control and Prevention's National Breast and Cervical Cancer Early Detection Program also offers breast cancer screenings or diagnostic services to low-income individuals who are uninsured or otherwise qualify for the program—go to cdc.gov/breast-cervical-cancer-screening/ to learn more.

This National Breast Cancer Awareness Month, let us each recommit to doing our part to give more support, hope, and care to patients, families, and survivors of breast cancer. Let us rise above party and politics and unite as Americans to help all of our loved ones struggling with this terrible disease. And let us strengthen our resolve together as a Nation to end cancer as we know it—for all the lives we have lost and all those we can still save.

NOW, THEREFORE, I, JOSEPH R. BIDEN JR., President of the United States of America, by virtue of the authority vested in me by the Constitution and the laws of the United States, do hereby proclaim October 2024 as National Breast Cancer Awareness Month. I encourage citizens, government agencies, private businesses, nonprofit organizations, and other interested groups to join in activities that will increase awareness of what Americans can do to prevent and control breast cancer and pay tribute to those who have lost their lives to this disease.

IN WITNESS WHEREOF, I have hereunto set my hand this thirtieth day of September, in the year of our Lord two thousand twenty-four, and of the Independence of the United States of America the two hundred and forty-ninth.

[FR Doc. 2024-22986

Filed 10-2-24; 8:45 am]

Billing code 3395-F4-P